DEPARTMENT OF TRANSPORTATION

Federal Motor Carrier Safety Administration

49 CFR Parts 356, 365, and 374

[Docket No. FMCSA-2008-0235]

RIN 2126-AB16

Elimination of Route Designation Requirement for Motor Carriers Transporting Passengers Over Regular Routes

AGENCY: Federal Motor Carrier Safety Administration (FMCSA), DOT.

ACTION: Final rule; delay of effective date and request for comments.

SUMMARY: On March 3, 2009, FMCSA published a document in the Federal Register (74 FR 9172) requesting comments on its proposal to delay the effective date of its January 16, 2009, final rule entitled “Elimination of Route Designation Requirement for Motor Carriers Transporting Passengers over Regular Routes.” Based on the five comments received, all supporting the proposal to delay the effective date of the final rule, FMCSA is extending the effective date by 90 days, and seeks additional public comment on the rulemaking. The final rule announced the discontinuation of the administrative requirement that applicants seeking for-hire authority to transport passengers over regular routes submit a detailed description and a map of the route(s) over which they propose to operate. In response to the Assistant to the President and Chief of Staff's memorandum of January 20, 2009, FMCSA extends the effective date to allow the Agency the opportunity for further review and consideration of the January 16, 2009, final rule and solicits public comments on the final rule. In order to afford sufficient time to consider and respond to comments, the effective date is extended for 90 days.

DATES: Comments must be received on or before April 16, 2009. The effective date of the rule amending 49 CFR Parts 356, 365, and 374, published at 74 FR 2895, January 16, 2009, is delayed until June 15, 2009. The compliance date for this rule continues to be July 15, 2009.

ADDRESSES: You may submit comments identified by the Federal Docket Management System Number in the heading of this document by any of the following methods. Do not submit the same comments by more than one method. The Federal eRulemaking portal is the preferred method for submitting comments, and we urge you to use it.

Federal eRulemaking Portal: Go to http://www.regulations.gov. Follow the online instructions for submitting comments. In the Comment or Submission section, type Docket ID Number “FMCSA-2008-0235”, select “Go”, and then click on “Send a Comment or Submission.” You will receive a tracking number when you submit a comment.

Telefax: 1-202-493-2251.

Mail, Courier, or Hand-Deliver: Docket Management Facility; U.S. Department of Transportation, Room W12-140, 1200 New Jersey Avenue, SE., Washington, DC 20590-0001. Office hours are between 9 a.m. and 5 p.m., e.t., Monday through Friday, except Federal holidays.

Privacy Act: Regardless of the method used for submitting comments, all comments will be posted without change to the Federal Docket Management System (FDMS) at http://www.regulations.gov. Anyone can search the electronic form of all our dockets in FDMS, by the name of the individual submitting the comment (or signing the comment, if submitted on behalf of an association, business, labor union, etc.). DOT's complete Privacy Act Statement was published in the Federal Register on April 11, 2000 (65 FR 19476) or you may visit http://edocket.access.gpo.gov/2008/pdf/E8-785.pdf.

FOR FURTHER INFORMATION CONTACT: Mr. David Miller, Regulatory Development Division, (202) 366-5370 or by e-mail at: FMCSAregs@dot.gov.

SUPPLEMENTARY INFORMATION: On January 16, 2009, FMCSA published a final rule announcing the discontinuation of the administrative requirement that applicants seeking for-hire authority to transport passengers over regular routes submit a detailed description and a map of the route(s) over which they propose to operate (74 FR 2895). The effective date of the rule was originally March 17, 2009, with a compliance date of July 15, 2009.

In accordance with the January 20, 2009 memorandum, 74 FR 4435, January 26, 2009, from the Assistant to the President and Chief of Staff, on March 2, 2009 (74 FR 9172), FMCSA sought comment on a proposal to extend the effective date of the final rule for 90 days. FMCSA received five comments to the March 2 notice. All of the commenters supported extending the effective date of the final rule for 90 days, providing for a new comment period, and, if appropriate, reconsidering the final rule based on any new information provided by the comments. Therefore, FMCSA extends the effective date of its January 16, 2009, final rule from March 17, 2009, to June 15, 2009. This will provide us sufficient time to address issues that have been raised about whether the new rule will make it more difficult for us to enforce our requirements concerning safety and access for individuals with disabilities. Although we believe the final rule fully addressed these issues, in light of the Assistant to the President and Chief of Staff's memorandum, we are delaying the effective date of the final rule to allow the Agency the opportunity for further review and consideration of these issues.

List of Subjects

49 CFR Part 356

Administrative practice and procedure, Routing, Motor carriers.

49 CFR Part 365

Administrative practice and procedure, Brokers, Buses, Freight forwarders, Motor carriers, Moving of household goods, Reporting and recordkeeping requirements.

49 CFR Part 374

Aged, Blind, Buses, Civil rights, Freight, Individuals with disabilities, Motor carriers, Smoking.

Issued on: March 12, 2009.
Rose A. McMurray,
Acting Deputy Administrator.

[FR Doc. E9-5778 Filed 3-16-09; 8:45 am]

BILLING CODE 4910-EX-P